NUCLEAR REGULATORY COMMISSION

[Docket No. NRC-2014-0188]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on August 12, 2014.

1. Type of submission, new, revision, or extension: Revision.

2. The title of the information collection: Reports Concerning Possible Non-Routine Emergency Generic Problems.

3. Current OMB approval number: 3150-0012.

4. The form number if applicable: N/A.

5. How often the collection is required: On occasion.

6. Who will be required or asked to report: Nuclear power reactor licensees, nonpower reactors, and materials applicants and licensees.

7. An estimate of the number of annual responses: 231

8. The estimated number of annual respondents: 231

9. An estimate of the total number of hours needed annually to complete the requirement or request: 83,100 hours annually.

10. Abstract: The NRC is requesting approval authority to collect information concerning possible nonroutine generic problems which would require prompt action from the NRC to preclude potential threats to public health and safety. During the conduct of normal program activities, the NRC becomes aware of an emergent event or issue that may be identified in its licensing, inspection, and enforcement programs. In addition, reportable occurrences, or unusual events, equipment failures, construction problems, and issues discovered or raised during safety reviews are brought to the attention of the NRC through licensee reporting procedures and the safety review process. The emergent event or issue may present a situation in which the NRC does not have enough information to support regulatory decision making regarding an appropriate course of action to address the event or issue.

If the NRC determines that an event or issue may have or has the potential for an immediate impact upon public health, safety, common defense, and/or the environment, the agency will prepare a bulletin or other form of generic communication that requires licensees and/or permit holders to respond within a specified period with information that would support agency evaluation and regulatory decision making. The bulletin may request licensees and permit holders to conduct evaluations, perform tests, and provide specified information within a prescribed time frame.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by December 31, 2014. Comments received after this date will be considered if it is practical to do so, but assurance of consideration cannot be given to comments received after this date.

Vlad Dorjets, Desk Officer, Office of Information and Regulatory Affairs (3150-0012), NEOB-10202, Office of Management and Budget, Washington, DC 20503.

Comments can also be emailed to Vladik_Dorjets@omb.eop.gov or submitted by telephone at 202-395-7315.

The NRC Clearance Officer is Tremaine Donnell, 301-415-6258.

Dated at Rockville, Maryland, this 25th day of November, 2014.
For the Nuclear Regulatory Commission.
Tremaine Donnell,
NRC Clearance Officer, Office of Information Services.

[FR Doc. 2014-28187 Filed 11-28-14; 8:45 am]

BILLING CODE 7590-01-P